NUCLEAR REGULATORY COMMISSION

Advisory Committee on Reactor Safeguards (ACRS); Meeting of the Subcommittee on Digital Instrumentation and Control Systems; Notice of Meeting

The ACRS Subcommittee on Digital Instrumentation and Control Systems (DI&C) will hold a meeting on October 23, 2009, Room T2-B3, 11545 Rockville Pike, Rockville, Maryland.

A portion of this meeting may be closed to discuss and protect information classified as National Security Information as well as Safeguards Information pursuant to 5 U.S.C. 552b(c)(1) and (3).

The agenda for the subject meeting shall be as follows:

Friday, October 23, 2009, 8:30 a.m.-5:30 p.m.

The Subcommittee will hear presentations by and hold discussions with representatives of the NRC staff and the industry regarding Regulatory Guide 5.71, “Cyber Security Programs for Nuclear Facilities,” and Cyber Security Plans. The Subcommittee will gather information, analyze relevant issues and facts, and formulate proposed positions and actions, as appropriate, for deliberation by the full Committee.

Members of the public desiring to provide oral statements and/or written comments should notify the Designated Federal Official, Ms. Christina Antonescu (telephone: 301-415-6792, e-mail: Christina.Antonescu@nrc.gov) five days prior to the meeting, if possible, so that appropriate arrangements can be made. Thirty-five hard copies of each presentation or handout should be provided to the Designated Federal Official 30 minutes before the meeting. In addition, one electronic copy of each presentation should be e-mailed to the Designated Federal Official 1 day before the meeting. If an electronic copy cannot be provided within this timeframe, presenters should provide the Designated Federal Official with a CD containing each presentation at least 30 minutes before the meeting. Electronic recordings will be permitted only during those portions of the meeting that are open to the public. Detailed procedures for the conduct of and participation in ACRS meetings were published in the Federal Register on October 6, 2008, (73 FR 58268-58269).

Further information regarding this meeting can be obtained by contacting the Designated Federal Official (DFO) between 8:45 a.m. and 5:30 p.m. (ET). Persons planning to attend this meeting are urged to contact the DFO at least two working days prior to the meeting to be advised of any potential changes to the agenda.

Dated: September 25, 2009.
Cayetano Santos,
Chief, Reactor Safety Branch A, Advisory Committee on Reactor Safeguards.

[FR Doc. E9-23684 Filed 9-30-09; 8:45 am]

BILLING CODE 7590-01-P